NUCLEAR REGULATORY COMMISSION

[Docket No. 50-409; NRC-2013-0168]

La Crosse Boiling Water Reactor, Environmental Assessment and Finding of No Significant Impact Regarding an Exemption Request

AGENCY: Nuclear Regulatory Commission.

ACTION: Environmental assessment and finding of no significant impact; issuance.

FOR FURTHER INFORMATION CONTACT: John Hickman, Division of Waste Management and Environmental Protection, Office of Federal and State Materials and Environmental Management Programs, U.S. Nuclear Regulatory Commission, Mail Stop: T8-F5, Washington, DC 20555-00001. Telephone: 301-415-3017; email: John.Hickman@nrc.gov.

SUPPLEMENTARY INFORMATION:

I. Introduction

The U.S. Nuclear Regulatory Commission (NRC) staff is considering a request dated June 18, 2012, by Dairyland Power Cooperative (DPC, the licensee) requesting exemptions from specific emergency planning requirements of part 50 of Title 10 of the Code of Federal Regulations (10 CFR) for the La Crosse Boiling Water Reactor (LACBWR) facility and Independent Spent Fuel Storage Installation (ISFSI).

This environmental assessment (EA) has been developed in accordance with the requirements of 10 CFR 51.21.

II. Environmental Assessment

Identification of Proposed Action

The proposed action would exempt LACBWR, a 10 CFR part 50 licensee, from certain 10 CFR part 50 emergency planning (EP) requirements because LACBWR is permanently shut-down and defueled.

Need for Proposed Action

On November 23, 2011, the NRC issued a Final Rule modifying or adding EP requirements in Section 50.47, Section 50.54, and Appendix E of 10 CFR part 50 (76 FR 72560). The EP Final Rule was effective on December 23, 2011, with specific implementation dates for each of the rule changes, varying from the effective date of the Final Rule through December 31, 2015. The EP Final Rule codified certain voluntary protective measures contained in NRC Bulletin 2005-02, “Emergency Preparedness and Response Actions for Security-Based Events,” and generically applicable requirements similar to those previously imposed by NRC Order EA-02-026, “Order for Interim Safeguards and Security Compensatory Measures,” dated February 25, 2002. In addition, the EP Final Rule amended other licensee emergency plan requirements to: (1) Enhance the ability of licensees in preparing and in taking certain protective actions in the event of a radiological emergency; (2) address, in part, security issues identified after the terrorist events of September 11, 2001; (3) clarify regulations to effect consistent emergency plan implementation among licensees; and (4) modify certain EP requirements to be more effective and efficient. However, the EP Final Rule was only an enhancement to the NRC's regulations and was not necessary for adequate protection. On page 72563 of the Federal Register notice for the EP Final Rule, the Commission “determined that the existing regulatory structure ensures adequate protection of public health and safety and common defense and security.”

The licensee claims that the proposed action is needed because the Final Rule imposed requirements on LACBWR that are not necessary to meet the underlying purpose of the regulations in view of the greatly reduced offsite radiological consequences associated with the current plant status as permanently shut down and with the spent nuclear fuel stored in an ISFSI. The EP program at this facility met the EP requirements in 10 CFR part 50 that were in effect before December 23, 2011, subject to any license amendments or exemptions modifying the EP requirements for the licensee. Thus, compliance with the EP requirements in effect before the effective date of the EP Final Rule demonstrated reasonable assurance that adequate protective measures could be taken in the event of a radiological emergency.

Environmental Impacts of the Proposed Action

The NRC staff evaluated the environmental impacts of the proposed action and concludes that exempting the facility from the emergency planning requirements will not have any adverse environmental impacts. The proposed action will involve no construction or major renovation of any buildings or structures, no ground disturbing activities, no alteration to land or air quality, nor any effect on historic and cultural resources. The proposed action will not significantly increase the probability or consequences of accidents, no changes are being made in the types of any effluents that may be released offsite, and there is no significant increase in occupational or public radiation exposure. Therefore, there are no significant radiological environmental impacts associated with the proposed action.

With regard to potential non-radiological impacts, there will be no construction or renovation of buildings or structures, or any ground disturbing activities associated with the exemptions. In addition, the proposed action does not affect non-radiological plant effluents and has no other environmental impact. Finally, there will be no impact on historic sites. Therefore, there are no significant non-radiological environmental impacts associated with the proposed action.

Accordingly, the NRC staff concludes that there are no significant environmental impacts associated with the proposed action.

Environmental Impacts of the Alternatives to the Proposed Action

As an alternative to the proposed action, the NRC staff considered denial of the proposed action (i.e., the “no-action” alternative). Denial of the exemption request would result in no change in current environmental impacts because there will be no construction or major renovation of any buildings or structures, nor any ground disturbing activities associated. Thus the environmental impacts of the proposed action and no-action alternative are similar. Therefore, the no-action alternative is not further considered.

Conclusion

The NRC staff has concluded that the proposed action will not significantly impact the quality of the human environment, and that the proposed action is the preferred alternative.

Agencies and Persons Consulted

In accordance with its stated policy, on May 15, 2013, the NRC staff consulted with the Wisconsin State official of the Radiation Protection Section, Wisconsin Department of Health Services, regarding the environmental impact of the proposed action. The State official had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA as part of its review of the proposed action. On the basis of this EA, the NRC finds that there are no significant environmental impacts from the proposed action, and that preparation of an environmental impact statement is not warranted. Accordingly, the NRC has determined that a Finding of No Significant Impact is appropriate.

IV. Further Information

Documents related to this action, including the application and supporting documentation, are available online in the NRC Library at http://www.nrc.gov/reading-rm/adams.html. From this site, you can access the NRC's Agencywide Documents Access and Management System (ADAMS), which provides text and image files of NRC's public documents. For further details with respect to the proposed action, see the licensee's letter dated June 18, 2012 (ADAMS Accession No. ML12171A462).

If you do not have access to ADAMS, or if there are problems in accessing the documents located in ADAMS, contact the NRC Public Document Room (PDR) Reference staff at 1-800-397-4209, 301-415-4737, or by email to pdr.resource@nrc.gov. These documents may also be viewed electronically on the public computers located at the NRC's PDR, O1 F21, One White Flint North, 11555 Rockville Pike, Rockville, MD 20852. The PDR reproduction contractor will copy documents for a fee.

Dated at Rockville, Maryland, this 19th day of July 2013.
For the Nuclear Regulatory Commission.
Andrew Persinko,
Deputy Director, Decommissioning and Uranium Recovery Licensing Directorate, Division of Waste Management and Environmental Protection, Office of Federal and State Materials and Environmental Management Programs.

[FR Doc. 2013-18402 Filed 7-30-13; 8:45 am]

BILLING CODE 7590-01-P